NUCLEAR REGULATORY COMMISSION

[Docket No. 50-320-LA-2; ASLBP No. 23-977-02-LA-BD01]

TMI-2 Solutions, LLC; Establishment of Atomic Safety and Licensing Board

Pursuant to the Commission's regulations, see, e.g., 10 CFR 2.104, 2.105, 2.300, 2.309, 2.313, 2.318, 2.321, notice is hereby given that an Atomic Safety and Licensing Board (Board) is being established to preside over the following proceeding:

TMI-2 SOLUTIONS, LLC (Three Mile Island Nuclear Station, Unit 2)

TMI-2 Solutions, LLC seeks to amend the license and associated technical specifications for Three Mile Island Nuclear Station, Unit 2 to support the facility's transition from post defueled monitoring storage to decommissioning. In response to a notice filed in the Federal Register, see 87 FR 51,454 (Aug. 22, 2022), Eric Epstein filed a hearing request on November 3, 2022.

The Board is comprised of the following Administrative Judges:

E. Roy Hawkens, Chairman, Atomic Safety and Licensing Board Panel, U.S. Nuclear Regulatory Commission, Washington, DC 20555-0001.

Nicholas G. Trikouros, Atomic Safety and Licensing Board Panel, U.S. Nuclear Regulatory Commission, Washington, DC 20555-0001.

Dr. Gary S. Arnold, Atomic Safety and Licensing Board Panel, U.S. Nuclear Regulatory Commission, Washington, DC 20555-0001.

All correspondence, documents, and other materials shall be filed in accordance with the NRC E-Filing rule. See 10 CFR 2.302.

Rockville, Maryland.

Dated: November 9, 2022.
Edward R. Hawkens,
Chief Administrative Judge, Atomic Safety and Licensing Board Panel.

[FR Doc. 2022-24867 Filed 11-14-22; 8:45 am]

BILLING CODE 7590-01-P